DEPARTMENT OF TRANSPORTATION

Federal Railroad Administration

[Docket Number FRA-2016-0125]

Petition for Waiver of Compliance

Under part 211 of Title 49 Code of Federal Regulations (CFR), this document provides the public notice that on December 15, 2016, the Age of Steam Roundhouse (AOSR) petitioned the Federal Railroad Administration (FRA) for a waiver of compliance from certain provisions of the Federal railroad safety regulations contained at 49 CFR part 230, Steam Locomotive Inspection and Maintenance Standards. FRA assigned the petition Docket Number FRA-2016-0125.

AOSR maintains and operates the locomotive number 1293, a 4-6-2 Pacific Class type steam locomotive built by the Canadian Locomotive Works in 1948 for the Canadian Pacific Railway. AOSR requests relief from performing the 1,472 service day inspection (SDI) required by 49 CFR 231.17, for number 1293, as it pertains to the inspection of the boiler. AOSR is requesting an additional 3 calendar years before performing the 1,472 SDI. The previous SDI was performed on May 4, 2002. Granting relief will allow number 1293 a SDI period of 18 calendar years, while not exceeding the 1,472 service days.

AOSR sporadically operates number 1293 on the Ohio Central Railroad (OHCR), part of the Genesee & Wyoming Corporation (GWRR). AOSR's justification for requesting relief is that number 1293 has only operated for a total 285 service days within the 15 calendar year period. Due to the purchase of OHCR by the GWRR in 2008, AOSR now only operates number 1293 for static and switching displays at its facility while under steam. Since 2008, number 1293 has tallied 34 service days. AOSR anticipates that number 1293 will be used for approximately 34 additional service days during the requested time extension.

A copy of the petition, as well as any written communications concerning the petition, is available for review online at www.regulations.gov and in person at the Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 25, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-07014 Filed 4-7-17; 8:45 am]

BILLING CODE 4910-06-P